SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

I. The information collections listed below will be submitted to OMB within 60 days from the date of this notice. Therefore, comments and recommendations regarding the information collections would be most useful if received by the Agency within 60 days from the date of this publication. Comments should be directed to the SSA Reports Clearance Officer at the address listed at the end of this publication. You can obtain a copy of the collection instruments by calling the SSA Reports Clearance Officer on (410) 965-4145, or by writing to him at the address listed at the end of this publication.

1. Representative Payee Report-Special Veterans Benefits—0960-0621.

The information collected on form SSA-2001 is used to determine whether payments certified to the representative payee have been used properly and whether the representative payee continues to demonstrate strong concern for the beneficiary's best interests. The form will be completed annually by all representative payees receiving special veterans benefits (SVB) payments on behalf of beneficiaries outside the United States. It will also be required at anytime SSA has reason to believe that the representative payee could be misusing the payments. Respondents are representative payees of veterans receiving SVB Payments under title VIII.

Number of Respondents: 200.

Frequency of Response: 1.

Average Burden Per Response: 10 minutes.

Estimated Annual Burden: 33 hours.

Background Information: In November 1999, Congress passed the Foster Care Independence Act, and on December 14, 1999, the President signed it into law (Pub. L. 106-169). An important part of this legislation, section 251, creates a new title VIII of the Social Security Act. Title VIII provides for a program of special benefits for certain World War II veterans.

As a part of the title VIII administration, Section 807(a) of P.L. 106-169, also provides that, if the Social Security Administration determines that it is not in the best interest of the beneficiary to receive benefits directly, payments may be certified to a relative, another person or an organization interested in or concerned about the welfare of the beneficiary. These individuals or organizations are called representative payees.

2. Annual Earning Test—Direct Mail Follow-up Program Notices—0960-0369. In 1997, as part of the initiative to reinvent government, SSA began to use the information reported on W-2's and self-employment tax returns to adjust benefits under the earnings test rather than have beneficiaries make a separate report, which often showed the same information. As a result, Beneficiaries under full retirement age (FRA) complete forms SSA-L9778-SM-SUP, SSA-L9779-SM-SUP and SSA-L9781-SM under this information collection.

With the passage of the “Senior Citizen” Freedom to Work Act of 2000 the annual earnings test (AET) at FRA was eliminated. As a result SSA designed 2 new Midyear Mailer Forms SSA-L9784-SM and SSA-L9785-SM to request an earnings estimate (in the year of FRA) for the period prior to the month of FRA. Social Security benefits may be adjusted based on the information provided and this information is needed to comply with the law. Consequently, the Midyear Mailer program has become an even more important tool in helping SSA to ensure that Social Security payments are correct. Respondents are beneficiaries who must update their current year estimate of earnings, give SSA an estimate of earnings for the following year and an earnings estimate (in the year of FRA) for the period prior to the month of FRA.

Number of Respondents: 225,000.

Frequency of Response: 1.

Average Burden Per Response: 10 minutes.

Estimated Annual Burden: 37,500 hours.

3. Student Statement Regarding School Attendance—0960-0105. The information collected on Form SSA-1372 is needed to determine whether children of an insured worker are eligible for benefits as a student. The respondents are student claimants for Social Security benefits and their respective schools.

Number of respondents: 200,000.

Number of Response: 1.

Average burden per response: 10 minutes.

Estimated Annual Burden: 33,333 hours.

II. The information collections listed below have been submitted to OMB for clearance. Written comments and recommendations on the information collections would be most useful if received within 30 days from the date of this publication. Comments should be directed to the SSA Reports Clearance Officer and the OMB Desk Officer at the addresses listed at the end of this publication. You can obtain a copy of the OMB clearance packages by calling the SSA Reports Clearance Officer on (410) 965-4145, or by writing to him.

1. Subpart T—State Supplementation Provisions; Agreement; Payments, 20 CFR 416.2099—0960-0240. Section 1618 of the Social Security Act contains pass-along provisions of the Social Security amendments. These provisions require States that supplement the Federal SSI benefits pass along Federal cost-of-living increases to individuals who are eligible for State supplementary payments. If a State fails to keep payments at the required level, it becomes ineligible for Medicaid reimbursement under title XIX of the Social Security Act. Regulation at 20 CFR 416.2099 requires the States to report mandatory minimum and optional supplementary payment data to SSA. The information is used to determine compliance with the law and regulations. The respondents are States that supplement Federal SSI payments.

Number of respondents: 26.

Number of Responses: 15 states report quarterly, 11 states report annually.

Average burden per response: 1 hour.

Estimated Annual Burden: 71 hours.

2. Application for Search of Census Records for Proof of Age—0960-0097. The information collected on Form SSA-1535-U3 is required to provide the Census Bureau with sufficient identifying information, which will allow an accurate search of census records to establish proof of age for an individual applying for Social Security Benefits. It is used for individuals who must establish age as a factor of entitlement. The respondents are individuals applying for Social Security Benefits.

Number of respondents: 18,000.

Number of Response: 1.

Average burden per response: 12 minutes.

Estimated Annual Burden: 3,600.

(SSA Address) Social Security Administration, DCFAM, Attn: Frederick W. Brickenkamp, 1-A-21 Operations Bldg., 6401 Security Blvd., Baltimore, MD 21235

(OMB Address) Office of Management and Budget, OIRA, Attn: Desk Officer for SSA, New Executive Office Building, Room 10230, 725 17th St., NW., Washington, DC 20503

Dated: August 16, 2000.
Nicholas E. Tagliareni,
Director, Center for Publications Management, Social Security Administration.

[FR Doc. 00-21323 Filed 8-21-00; 8:45 am]

BILLING CODE 4190-29-U